DEPARTMENT OF COMMERCE

National Oceanic and Atmospheric Administration

[RTID 0648-XB138]

Pacific Fishery Management Council; Public Meetings

AGENCY: National Marine Fisheries Service, National Oceanic and Atmospheric Administration, Commerce.

ACTION: Notice of public meetings.

SUMMARY: The Pacific Fishery Management Council (Pacific Council) and its advisory entities will hold online public meetings.

DATES: The Pacific Council and its advisory entities will meet online June 21-26 and 28-30, 2021, noting there will be no meetings Sunday, June 27, 2021. The Pacific Council meeting will begin on Thursday, June 24, 2021 at 9 a.m. Pacific Daylight Time (PDT), reconvening at 8 a.m. Friday, June 25 through Saturday, June 26. The Council will reconvene Monday, June 28, through Wednesday, June 30, 2021. All meetings are open to the public, except for a Closed Session held from 8 a.m. to 9 a.m., Thursday, June 24, to address litigation and personnel matters. The Pacific Council will meet as late as necessary each day to complete its scheduled business.

ADDRESSES: Meetings of the Pacific Council and its advisory entities will be webinar only.

Council address: Pacific Fishery Management Council, 7700 NE Ambassador Place, Suite 101, Portland, OR 97220. Instructions for attending the meeting via live stream broadcast are given under SUPPLEMENTARY INFORMATION, below.

FOR FURTHER INFORMATION CONTACT: Mr. Chuck Tracy, Executive Director; telephone: (503) 820-2415 or (866) 806-7204 toll-free; or access the Pacific Council website, www.pcouncil.org for the proposed agenda and meeting briefing materials.

SUPPLEMENTARY INFORMATION: The June 24-26 and 28-30, 2021 meeting of the Pacific Council will be streamed live on the internet. The broadcasts begin initially at 9 a.m. PDT Thursday, June 24, 2021 and continue at 8 a.m. Saturday, June 26 and Monday, June 28 daily through Wednesday, June 30. No meetings are scheduled for Sunday, June 27, 2021. Broadcasts end when business for the day is complete. Only the audio portion and presentations displayed on the screen at the Pacific Council meeting will be broadcast. The audio portion for the public is listen-only except that an opportunity for oral public comment will be provided prior to Council Action on each agenda item. You can attend the webinar online using a computer, tablet, or smart phone, using the webinar application. Specific meeting information, including directions on how to join the meeting and system requirements will be provided in the meeting announcement on the Pacific Council's website (see www.pcouncil.org). It is recommended that you use a computer headset to listen to the meeting, but you may use your telephone for the audio-only portion of the meeting.

The following items are on the Pacific Council agenda, but not necessarily in this order. Agenda items noted as “Final Action” refer to actions requiring the Council to transmit a proposed fishery management plan, proposed plan amendment, or proposed regulations to the U.S. Secretary of Commerce, under Sections 304 or 305 of the Magnuson-Stevens Fishery Conservation and Management Act. Additional detail on agenda items, Council action, and advisory entity meeting times, are described in Agenda Item A.4, Proposed Council Meeting Agenda, and will be in the advance June 2021 briefing materials and posted on the Pacific Council website at www.pcouncil.org no later than Friday, June 4, 2021.

A. Call to Order

1. Opening Remarks

2. Roll Call

3. Executive Director's Report

4. Approve Agenda

B. Open Comment Period

1. Comments on Non-Agenda Items

C. Administrative Matters

1. Council Coordination Committee

2. Standardized Bycatch Reporting Methodology—Scoping

3. Update on Executive Order 14008

4. Marine Planning

5. Regional Operating Agreement

6. Fiscal Matters

7. Legislative Matters

8. Approval of Council Meeting Records

9. Membership Appointments and Council Operating Procedures

10. Future Council Meeting Agenda and Workload Planning

D. Habitat Issues

1. Current Habitat Issues

E. Salmon Management

1. Southern Oregon/Northern California Coast Coho Endangered Species Act (ESA) Consultation

F. Highly Migratory Species Management

1. National Marine Fisheries Service Report

2 International Management Activities

3. Exempted Fishing Permits

4. Drift Gillnet Fishery Bycatch Performance Report

5. Drift Gillnet Fishery Hard Caps

G. Groundfish Management

1. National Marine Fisheries Service Report

2. Fixed Gear Catch Share Review—Scoping

3. Electronic Monitoring Update

4. Groundfish Endangered Species Workgroup Report

5. Adopt Stock Assessments

6. 2023-24 Harvest Specifications and Management Measures Planning

7. Inseason Adjustments—Final Action

H. Coastal Pelagic Species Management

1. National Marine Fisheries Service Report

2. Pacific Mackerel Assessment and Management Measures

3. Management Framework for the Central Subpopulation of Northern Anchovy

Advisory Body Agendas

Advisory body agendas will include discussions of relevant issues that are on the Pacific Council agenda for this meeting and may also include issues that may be relevant to future Council meetings. Proposed advisory body agendas for this meeting will be available on the Pacific Council website www.pcouncil.org no later than Friday, June 4, 2021.

Schedule of Ancillary Meetings

Day 1—Monday, June 21, 2021

Scientific and Statistical Committee Groundfish Subcommittee—8 a.m.

Budget Committee—10 a.m.

Legislative Committee—1 p.m.

Day 2—Tuesday, June 22, 2021

Habitat Committee—8 a.m.

Highly Migratory Species Advisory Subpanel—8 a.m.

Highly Migratory Species Management Team—8 a.m.

Salmon Advisory Subpanel—8 a.m.

Salmon Technical Team—8 a.m.

Scientific and Statistical Committee Groundfish Subcommittee—8 a.m.

Day 3—Wednesday, June 23, 2021

Habitat Committee—8 a.m.

Coastal Pelagic Species Advisory Subpanel—8 a.m.

Coastal Pelagic Species Management Team—8 a.m.

Enforcement Consultants—8 a.m.

Groundfish Advisory Subpanel—8 a.m.

Groundfish Management Team—8 a.m.

Highly Migratory Species Advisory Subpanel—8 a.m.

Highly Migratory Species Management Team—8 a.m.

Scientific and Statistical Committee—8 a.m.

Day 4—Thursday, June 24, 2021

California State Delegation—7 a.m.

Oregon State Delegation—7 a.m.

Washington State Delegation—7 a.m.

Coastal Pelagic Species Advisory Subpanel—8 a.m.

Coastal Pelagic Species Management Team—8 a.m.

Groundfish Advisory Subpanel—8 a.m.

Groundfish Management Team—8 a.m.

Highly Migratory Species Advisory Subpanel—8 a.m.

Highly Migratory Species Management Team—8 a.m.

Scientific and Statistical Committee—8 a.m.

Enforcement Consultants—As Necessary

Day 5—Friday, June 25, 2021

California State Delegation—7 a.m.

Oregon State Delegation—7 a.m.

Washington State Delegation—7 a.m.

Coastal Pelagic Species Advisory Subpanel—8 a.m.

Coastal Pelagic Species Management Team—8 a.m.

Groundfish Advisory Subpanel—8 a.m.

Groundfish Management Team—8 a.m.

Highly Migratory Species Advisory Subpanel—8 a.m.

Highly Migratory Species Management Team—8 a.m.

Enforcement Consultants—As Necessary

Day 6—Saturday, June 26, 2021

California State Delegation—7 a.m.

Oregon State Delegation—7 a.m.

Washington State Delegation—7 a.m.

Groundfish Advisory Subpanel—8 a.m.

Groundfish Management Team—8 a.m.

Enforcement Consultants—As Necessary

* No Meetings Scheduled for Sunday, June 27, 2021

Day 7—Monday, June 28, 2021

California State Delegation—7 a.m.

Oregon State Delegation—7 a.m.

Washington State Delegation—7 a.m.

Groundfish Advisory Subpanel—8 a.m.

Groundfish Management Team—8 a.m.

Enforcement Consultants—As Necessary

Day 8—Tuesday, June 29, 2021

California State Delegation—7 a.m.

Oregon State Delegation—7 a.m.

Washington State Delegation—7 a.m.

Groundfish Advisory Subpanel—8 a.m.

Groundfish Management Team—8 a.m.

Enforcement Consultants—As Necessary

Day 9—Wednesday, June 30, 2021

California State Delegation—7 a.m.

Oregon State Delegation—7 a.m.

Washington State Delegation—7 a.m.

Although non-emergency issues not contained in this agenda may come before the Pacific Council for discussion, those issues may not be the subject of formal Council action during this meeting. Council action will be restricted to those issues specifically listed in this notice and any issues arising after publication of this notice that require emergency action under section 305(c) of the Magnuson-Stevens Fishery Conservation and Management Act, provided the public has been notified of the Pacific Council's intent to take final action to address the emergency.

Special Accommodations

Requests for sign language interpretation or other auxiliary aids should be directed to Mr. Kris Kleinschmidt at (503) 820-2412 at least 10 business days prior to the meeting date.

Authority: 16 U.S.C. 1801 et seq.

Dated: May 27, 2021.
Tracey L. Thompson,
Acting Deputy Director, Office of Sustainable Fisheries, National Marine Fisheries Service.

[FR Doc. 2021-11547 Filed 6-1-21; 8:45 am]

BILLING CODE 3510-22-P